DEPARTMENT OF TRANSPORTATION

Pipeline and Hazardous Materials Safety Administration

[Docket No. PHMSA-2013-0061]

Pipeline Safety: Information Collection Activities

AGENCY: Pipeline and Hazardous Materials Safety Administration (PHMSA), DOT.

ACTION: Notice and request for comments.

SUMMARY: In accordance with the Paperwork Reduction Act of 1995, PHMSA invites comments on an information collection under Office of Management and Budget (OMB) Control No. 2137-0047, titled “Transportation of Hazardous Liquids by Pipeline: Recordkeeping and Accident Reporting.” PHMSA is preparing to revise Form PHMSA F 7000-1 ACCIDENT REPORT—HAZARDOUS LIQUID PIPELINE SYSTEMS which is included in this information collection. In an effort to streamline processes, PHMSA is also proposing to include within this information collection, information currently collected under OMB Control No. 2137-0598 regarding the incorporation by reference of the industry standard on leak detection. This recordkeeping requirement supports pipeline inspection and improves pipeline safety by providing early detection of a pipeline leak. PHMSA will request approval from OMB for the revision of the information collection.

DATES: Interested persons are invited to submit comments on or before June 24, 2013.

ADDRESSES: Comments may be submitted in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of the West Building, 1200 New Jersey Avenue SE., Washington, DC, between 9:00 a.m. and 5:00 p.m., Monday through Friday, except Federal holidays.

Instructions: Identify the docket number, PHMSA-2013-0061, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of the West Building, 1200 New Jersey Avenue SE., Washington, DC, between 9:00 a.m. and 5:00 p.m., Monday through Friday, except Federal holidays. If you wish to receive confirmation of receipt of your written comments, please include a self-addressed, stamped postcard with the following statement: “Comments on PHMSA-2013-0061.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by email at mailto:Angela.Dow@dot.gov, by fax at 202-366-4566, or by mail at DOT, PHMSA, 1200 New Jersey Avenue SE, PHP-2, Washington, DC 20590-0001.

SUPPLEMENTARY INFORMATION:

A. Background

Section 1320.8(d), Title 5, Code of Federal Regulations, requires PHMSA to provide interested members of the public and affected agencies an opportunity to comment on information collection and recordkeeping requests. This notice identifies an information collection request that PHMSA will be submitting to OMB for revision and extension. The information collection expires January 31, 2014, and is identified under OMB Control No. 2137-0047, titled: “Transportation of Hazardous Liquids by Pipeline: Recordkeeping and Accident Reporting.”

B. Hazardous Liquid Accident Report

PHMSA intends to revise the Form PHMSA F 7000-1 ACCIDENT REPORT—HAZARDOUS LIQUID PIPELINE SYSTEMS (Hazardous Liquid Accident Report, report) to collect more information for smaller spills, require additional fields, and revise the instructions. Background for these topics is as follows:

Collect additional information for certain low consequence events:

Currently, if a release is at least 5 gallons but is less than 5 barrels with no additional consequences such as, a release in the water, or a fire or explosion, and property damage is less than or equal to $50,000, and no death or injury is involved, operators submit a report with less information than for releases that do not meet this criteria. The required fields for the smaller releases with lesser impact are indicated on the form by grey shading. For accidents reported for calendar years 2011 and 2012, 47% of the reports were for releases that required minimal information. As a result, PHMSA is missing valuable data for approximately half of the reportable accidents. Therefore, PHMSA proposes to collect the same data for all releases. This will result in the collection of the following data for smaller releases with lesser consequences including: Part C—pipe characteristics and specification, Part D—consequence information, Part E—operating information, Part F—drug and alcohol testing information, and Part G—details of the cause. These reports are used for identifying long- and short-term trends at the national, state and operator-specific levels. The frequency, causes, and consequences of the accidents provide insight into the safety metrics currently used by PHMSA, state partners, and other pipeline safety stakeholders, including the pipeline industry and general public. PHMSA also uses the data for inspection planning and risk assessment. Based on previous reporting years, PHMSA estimates that 400 accident reports (responses) are submitted each year. PHMSA estimates that 200 forms report releases that use all data fields and take approximately 10 hours to file, while 200 forms require approximately five hours to complete because there is less information to report. If PHMSA's proposal to collect the same information for all types of reportable accidents is approved, all reports will take approximately 10 hours to file resulting in an additional 1,000 burden hours.

Revise instructions for Volume Spilled (Part A9) and Volume Recovered (Part A11):

The volume spilled is critical data used to assess the impact of an individual spill and the long-term performance of the hazardous liquid pipeline industry. Prior to 2010, the instructions provided no guidance for either the volume spilled or the volume recovered. In 2010, PHMSA added instructions for the volume spilled explaining that the reported volume should include all product exiting the pipeline system. The volume recovered should include all product collected during spill response. In 2012, PHMSA modified the instructions by ending the volume spilled at the point where the operator gained control of the release and began immediately collecting the product as it exited the system. Instructions for the volume recovered were modified to also exclude volume collected immediately as it exited the pipeline system. Since this change was implemented, several PHMSA staff members have expressed concerns about long term trending. Although specific guidance was not provided prior to 2010, operators generally included all product exiting the system as volume spilled, regardless of whether the operator immediately collected the product. Since the change implemented in 2012 appears to have resulted in a significant departure from past practice, PHMSA is proposing to revise the current instructions for reporting volume to stipulate that the reported volume spilled should include all product exiting the pipeline system. Likewise, the volume recovered should include all product collected during spill response, as was the general practice prior to the revision made in 2012.

Revise instructions for time sequence (Part A18):

In a report titled, “PIPELINE SAFETY Better Data and Guidance Needed to Improve Pipeline Operator Incident Response,” (GAO-13-168) the Government Accountability Office recommends that PHMSA improve the reliability of incident response data. PHMSA proposes to require the time sequence fields in part A18 for every report. PHMSA has modified the instructions to clarify that PHMSA will use the time sequence data to calculate accident response time.

Revise instructions for National Response Center Report (NRC) Number:

PHMSA proposes to require this field in every report. PHMSA recognizes that in some cases operators are not required to submit an NRC report. In others, operators may submit multiple NRC reports for a single accident. Operators will be able to enter a single NRC number or select one of the following: NRC notification not required; NRC notification required but not made; or NRC report number not known. When there is more than one NRC report for an accident, operators will be instructed to enter the first report in this field and remaining NRC report numbers in Part H—Narrative.

Revise instructions for City:

PHMSA proposes to require this field in every report of an accident that occurs onshore to facilitate understanding about the location of the accident. Operators will also be able to enter “not within a municipality” in this field.

Revise instructions for County or Parish:

PHMSA proposes to require this field in every report of an accident that occurs onshore to facilitate understanding about the location of the accident.

Revise instructions for Accident Preparer and Authorizer:

PHMSA proposes to require the name, email address, and phone number for each of these individuals in every report. PHMSA and state investigators need this contact information to facilitate communication with the operator. If an individual does not have a work email address, the individual will be able to enter “no email address” in this field.

C. Incorporation by Reference of Industry Standard on Leak Detection

Sections 195.134 and 195.444 of the Federal pipeline safety regulations require operators of hazardous liquid pipeline facilities installing new computational pipeline monitoring (CPM) leak detection systems or replacing components of existing CPM systems to comply with section 4.2 of the American Petroleum Institute's recommended practice API 1130 “Computational Pipeline Monitoring for Liquid Pipelines” (API 1130). API 1130 section 4.2 provides information collection and maintenance guidance on many factors such as measurement capabilities, communications reliability, pipeline operating condition, and product type. PHMSA reviews this information during pipeline inspection. The information supports the pipeline inspection and improves pipeline safety by providing early detection of a pipeline leak. This information is currently collected under OMB Control No. 2137-0598. Because this recordkeeping requirement is unique to hazardous liquid operators, PHMSA proposes to incorporate it into this package that currently contains recordkeeping and reporting requirements for hazardous liquid operators. The incorporation of this information collection will add 50 responses and 100 burden hours to OMB Control No. 2137-0047.

D. Summary of Impacted Collection

The following information is provided for this information collection: (1) Title of the information collection; (2) OMB control number; (3) Type of request; (4) Abstract of the information collection activity; (5) Description of affected public; (6) Estimate of total annual reporting and recordkeeping burden; and (7) Frequency of collection. PHMSA will request a three-year term of approval for this information collection activity. PHMSA requests comments on the following information collection:

Title: Transportation of Hazardous Liquids by Pipeline: Recordkeeping and Accident Reporting.

OMB Control Number: 2137-0047.

Current Expiration Date: 1/31/2014.

Type of Request: Revision.

Abstract: This information collection covers recordkeeping and accident reporting by hazardous liquid pipeline operators who are subject to 49 CFR Part 195. Section 195.444 requires operators of single-phase hazardous liquid pipeline facilities that use CPM leak detection systems to comply with the standards set out in American Petroleum Institute (API) publication API 1130. Compliance with API 1130, including its recordkeeping requirements, supports pipeline safety by ensuring the proper functioning of CPM leak detection systems. Section 195.50 specifies the definition of an “accident” and the reporting criteria for submitting a Hazardous Liquid Accident Report (PHMSA Form PHMSA F7000-1) is detailed in § 195.54. PHMSA is proposing to revise the Hazardous Liquid Accident Report to collect more data on small spills and to revise the instructions for completing the form.

Affected Public: Hazardous liquid pipeline operators.

Annual Reporting and Recordkeeping Burden:

Annual Responses: 897.

Annual Burden Hours: 52,429.

Frequency of collection: On Occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Jeffrey D. Wiese,
Associate Administrator for Pipeline Safety.

[FR Doc. 2013-09474 Filed 4-22-13; 8:45 am]

BILLING CODE 4910-60-P